DEPARTMENT OF JUSTICE

Antitrust Division

Notice Pursuant to the National Cooperative Research and Production Act of 1993 Wireless Industrial Technology Konsortium Inc.

Correction

In notice document E8-21742 appearing on page 54170 in the issue of Thursday, September 18, 2008, make the following corrections:

In the second column, in the first full paragraph, the 12th and 13th lines are corrected to read as follows: “Siemens AG, Karlsruhe, GERMANY; and ABB Automation Productions GmbH, Alzenau, GERMANY.”

[FR Doc. Z8-21742 Filed 10-7-08; 8:45 am]

BILLING CODE 1505-01-D